DEPARTMENT OF THE INTERIOR

Bureau of Land Management

[NM-030-1310-DB]

Draft Resource Management Plan Amendment (RMPA) and Environmental Impact Statement (EIS) for Federal Fluid Minerals Leasing and Development in Sierra and Otero Counties, NM

AGENCY: Bureau of Land Management (BLM), Interior.

ACTION: Notice of extended public comment period.

SUMMARY: The BLM announces additional time for public comment on the Draft Resource Management Plan Amendment (RMPA) and Environmental Impact Statement (EIS) for Federal Fluid Minerals Leasing and Development in Sierra and Otero Counties. Pursuant to 102(2)(c) of the National Environmental Quality (CEQ) regulations (40 CFR 1500-1508), and the Federal Land Policy and Management Act (FLPMA) of 1976, the BLM Las Cruces Field Office has prepared a Draft RMPA/EIS. The RMPA/EIS addresses Federal fluid minerals (Oils, gas, and geothermal) leasing and subsequent activities (e.g., exploration, development, or production) in Sierra and Otero Counties, New Mexico. The new deadline for public comment ends June 22, 2001.

DATES: Written comments on the Draft RMPA/EIS must be postmarked on or before June 22, 2001.

ADDRESSES: Written comments should be sent to: Tom Phillips, RMPA/EIS Team Leader, BLM, Las Cruces Field Office, 1800 Marquess, Las Cruces, NM 88005.

FOR FURTHER INFORMATION CONTACT: Tom Phillips, RMPA/EIS Team Leader, (505) 525-4377.

SUPPLEMENTARY INFORMATION: Written comments may be submitted to the BLM, Las Cruces Field Office, 1800 Marquess, Las Cruces, NM 88005 on or before June 22, 2001. Copies of the Draft RMPA/EIS have been distributed to a mailing list of identified interested parties. Single copies of the Draft RMPA/EIS are available from the BLM Las Cruces Field Office, 1800 Marquess, Las Cruces Field Office, New Mexico. Public reading copies are available for review at public and university libraries in Las Cruces, Alamogordo, Truth or Consequences, Roswell, and Santa Fe, New Mexico and El Paso, Texas. The RMPA amends the 1986 Resource Management Plan (RMP) for the White Sands Resource Area. The objective of the RMPA is to determine (1) which lands overlying Federal fluid minerals are suitable and available for leasing and subsequent development and (2) how those leased lands will be managed. The EIS identifies the potential impacts that alternative plans for fluid minerals leasing and subsequent activities could have on the environment and identifies appropriate measures to mitigate those impacts.

Dated: May 1, 2001.
Tim L. Sanders,
Acting Field Manager, Las Cruces.

[FR Doc. 01-12411 Filed 5-16-01; 8:45 am]

BILLING CODE 4310-VC-M